DEPARTMENT OF ENERGY

Federal Energy Regulatory Commission

Combined Notice of Filings

Take notice that the Commission has received the following Natural Gas Pipeline Rate and Refund Report filings:

Filings Instituting Proceedngs

Docket Numbers: RP17-762-000.

Applicants: Tallgrass Interstate Gas Transmission, LLC.

Description: Rate schedule PAWS report of Tallgrass Interstate Gas Transmission, LLC, et al. under RP17-762.

Filed Date: 7/31/18.

Accession Number: 20180731-5119.

Comments Due: 5 p.m. ET 9/5/18.

Docket Numbers: RP18-1073-000.

Applicants: Comisión Federal de Electricidad,CFE International LLC.

Description: Application for Waiver of Capacity Release Regulations, et al. of Comision Federal de Electricidad, et al. under RP18-1073.

Filed Date: 8/22/18.

Accession Number: 20180822-5061.

Comments Due: 5 p.m. ET 9/4/18.

Docket Numbers: RP18-1075-000.

Applicants: Gulf South Pipeline Company, LP.

Description: § 4(d) Rate Filing: Superseding Non-conf Neg Rate Agmt (Entergy 48765) to be effective 9/1/2018.

Filed Date: 8/23/18.

Accession Number: 20180823-5000.

Comments Due: 5 p.m. ET 9/4/18.

Docket Numbers: RP18-1076-000.

Applicants: Algonquin Gas Transmission, LLC.

Description: § 4(d) Rate Filing: AGT Aug2018 NRA Cleanup Filing to be effective 9/23/2018.

Filed Date: 8/23/18.

Accession Number: 20180823-5026.

Comments Due: 5 p.m. ET 9/4/18.

Docket Numbers: RP18-1077-000.

Applicants: Guardian Pipeline, L.L.C.

Description: § 4(d) Rate Filing: Update to Guardian URL to be effective 9/24/2018.

Filed Date: 8/23/18.

Accession Number: 20180823-5054.

Comments Due: 5 p.m. ET 9/4/18.

Docket Numbers: RP18-1078-000.

Applicants: Guardian Pipeline, L.L.C.

Description: § 4(d) Rate Filing: Update to Guardian URL to be effective 9/24/2018.

Filed Date: 8/23/18.

Accession Number: 20180823-5055.

Comments Due: 5 p.m. ET 9/4/18.

Docket Numbers: RP18-1079-000.

Applicants: Midwestern Gas Transmission Company.

Description: § 4(d) Rate Filing: Update to Midwestern URL to be effective 9/24/2018.

Filed Date: 8/23/18.

Accession Number: 20180823-5056.

Comments Due: 5 p.m. ET 9/4/18.

Docket Numbers: RP18-1080-000.

Applicants: OkTex Pipeline Company, L.L.C.

Description: § 4(d) Rate Filing: Update to OkTex URL to be effective 9/24/2018.

Filed Date: 8/23/18.

Accession Number: 20180823-5057.

Comments Due: 5 p.m. ET 9/4/18.

Docket Numbers: RP18-1081-000.

Applicants: Viking Gas Transmission Company.

Description: § 4(d) Rate Filing: Update to Viking URL to be effective 9/24/2018.

Filed Date: 8/23/18.

Accession Number: 20180823-5058.

Comments Due: 5 p.m. ET 9/4/18.

Docket Numbers: RP18-1082-000.

Applicants: Northwest Pipeline LLC.

Description: § 4(d) Rate Filing: 2018 Housekeeping Filing to be effective 10/1/2018.

Filed Date: 8/23/18.

Accession Number: 20180823-5059.

Comments Due: 5 p.m. ET 9/4/18.

Docket Numbers: RP18-1083-000.

Applicants: Texas Eastern Transmission, LP.

Description: § 4(d) Rate Filing: TETLP Aug2018 NCF and NRA Cleanup Filing to be effective 9/23/2018.

Filed Date: 8/23/18.

Accession Number: 20180823-5076.

Comments Due: 5 p.m. ET 9/4/18.

Docket Numbers: RP18-1086-000.

Applicants: Algonquin Gas Transmission, LLC.

Description: § 4(d) Rate Filing: Negotiated Rates Atlantic Energy eff 9-1-18 to be effective 9/1/2018.

Filed Date: 8/28/18.

Accession Number: 20180828-5034.

Comments Due: 5 p.m. ET 9/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2018.
Nathaniel J. Davis, Sr.,
Deputy Secretary

[FR Doc. 2018-19263 Filed 9-5-18; 8:45 am]

BILLING CODE 6717-01-P